DEPARTMENT OF ENERGY

Golden Field Office; Peer Review of DOE's Competitive Solicitation Program

AGENCY: Department of Energy.

ACTION: Announcement of a peer review of the Department of Energy's (DOE's) Competitive Solicitation Program.

SUMMARY: The DOE, Office of Power Technology is announcing its intention to conduct a Peer Review of DOE's Competitive Solicitation Program September 20, 2001 in Golden Colorado. The meeting is open to the public and attendance is free of charge.

DATES: Thursday, September 20, 2001 from 12 Noon to 5 pm (MDT).

ADDRESSES: 1617 Cole Boulevard, Golden, CO 80401, Building 17, 4th Floor Conference Room.

FOR FURTHER INFORMATION CONTACT: Lizana K. Pierce, DOE Golden Field Office, 1617 Cole Boulevard, Golden, CO 80401-3393 or (303) 275-4727 or via facsimile to at (303) 275-4753, or electronically to lizana—pierce@nrel.gov.

SUPPLEMENTARY INFORMATION: The purpose of the Peer Review is to: (1) Improve decision-making and program leadership; (2) improve productivity and management; (3) provide stakeholders the opportunity to learn about the program and projects; and (4) provide public accountability for the use of public funds. The Peer Review will examine the: (1) Appropriateness of the program scope and objectives relative to available resources; (2) effectiveness in meeting the stated goals; (3) adequacy in reaching the intended audience; (4) quality of the competitive process; and (5) effectiveness of DOE Program and Project plans. The panel will also be requested to provide recommendations for future activities and ways in which the Program can be improved.

The mission of the Competitive Solicitation Program is to obtain, analyze, and disseminate cost and operational information necessary to overcome the perceptions of risk in selecting renewable energy and hybrid renewable energy generation or cogeneration systems for the competitive electric market. The Competitive Solicitation effort is a technology-focused competitive process aimed at carrying out field validation and education efforts that: (1) Prove the availability of clean, affordable, and reliable electric power supply options for many remote or economically challenged regions of the nation, including at Federal facilities, on Native American lands or at Tribal Colleges; (2) obtain essential data on operational performance, reliability, and benefits of renewable energy and hybrid renewable energy generation or cogeneration systems in various geographic locations and climatic conditions; or (3) enhance the public's understanding and use of renewable energy technologies.

The Competitive Solicitation Program was proposed as a six-year program with two components: (1) Feasibility studies, and (2) field verification projects. However, the only component of the Competitive Solicitation Program funded in Fiscal Year 2000 (FY00) was the Native American solicitation for renewable energy feasibility studies at Tribal colleges and universities. Therefore, the resulting solicitation, entitled Feasibility Studies for Potential Application of Renewable Energy Technologies at Tribal Colleges and Universities is the focus of the Peer Review. However, preceding projects, competitively selected under the Remote Applications of Renewable Power Technologies on Native American Lands solicitation, will be included as representative field verification projects.

The Peer Review will be open to the public, and the public will have an opportunity to address DOE representatives and the panel. DOE will also accept written comments through October 5, 2001. Approximately 40 days after the meeting, a report documenting the results of the review will be issued and posted on the DOE Golden homepage at www.golden.doe.gov.

Issued in Golden, Colorado, on September 5, 2001.
Jerry L. Zimmer,
Director, Office of Acquisition and Financial Assistance.

[FR Doc. 01-23212 Filed 9-17-01; 8:45 am]

BILLING CODE 6450-01-P